DEPARTMENT OF HEALTH AND HUMAN SERVICES

Office of the National Coordinator for Health Information Technology; American Health Information Community Confidentiality, Privacy, and Security Workgroup Meeting

ACTION: Announcement of meeting

SUMMARY: This notice announces the seventh meeting of the American Health Information Community Confidentiality, Privacy, and Security Workgroup in accordance with the Federal Advisory Committee Act (Pub. L. 92-463, 5 U.S.C., App.)

DATES: February 20, 2007, from 1 p.m. to 5 p.m. EST.

ADDRESSES: Mary C. Switzer Building (330 C Street, SW., Washington, DC 20201), Conference Room 4090 (please bring photo ID for entry to a Federal building).

FOR FURTHER INFORMATION CONTACT: http://www.hhs.gov/healthit/ahic/confidentiality/.

SUPPLEMENTARY INFORMATION: The Workgroup members will discuss supplemental Identity Proofing Recommendations and Workgroup priorities for the rest of the year. The Workgroup plans to publish questions for public comment in the Federal Register before this meeting.

This meeting will be available via Web cast at http://www.hhs.gov/healthit/ahic/cps_instruct.html.

Dated: January 30, 2007.
Judith Sparrow,
Director, American Health Information Community, Office of Programs and Coordination, Office of the National Coordinator for Health Information Technology.

[FR Doc. 07-514 Filed 2-6-07; 8:45 am]

BILLING CODE 4150-24-M